DEPARTMENT OF COMMERCE

United States Patent and Trademark Office

Agency Information Collection Activities; Submission to the Office of Management and Budget (OMB) for Review and Approval; Comment Request; Global Intellectual Property Academy (GIPA) Surveys

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on June 22, 2020 during a 60-day comment period. This notice allows for an additional 30 days for public comments.

Agency: United States Patent and Trademark Office, Department of Commerce.

Title: Global Intellectual Property Academy (GIPA) Surveys.

OMB Control Number: 0651-0065.

Form Number: None.

Type of Review: Extension and revision of a currently approved information collection.

Number of Respondents: 750 respondents.

Average Hours per Response: The USPTO estimates 750 responses and that it will take the public approximately 15 minutes to complete this information collection, depending on the complexity of the submission. This includes the time to gather the necessary information, prepare the appropriate briefs, petition, and other papers, and submit the completed items to the USPTO.

Estimated Total Annual Respondent Burden Hours: 188 hours.

Estimated Total Annual Non-Hour Cost Burden: $0.

Needs and Uses: The USPTO surveys international and domestic participants of the USPTO's GIPA training programs to obtain feedback from the participants on the effectiveness of the various services provided to them in the training programs. GIPA was established in 2006 to offer training programs on the enforcement of intellectual property rights, patents, trademarks, and copyright.

The training programs offered by GIPA are designed to meet the specific needs of foreign government officials (including judges; prosecutors; police; customs officials; patent, trademark, and copyright officials; and policymakers) concerning various intellectual property topics, such as global intellectual property rights protection, enforcement, and strategies to handle the protection and enforcement issues in their respective countries.

This information collection contains three surveys directed to separate audiences: Overseas-program participants, post-program participants, and alumni. The Overseas-Program Survey is designed for international participants at the conclusion of the GIPA training program conducted overseas. This survey replaces the existing Pre-Program Survey and is a shortened version of the Post-Program Survey. The Post-Program Survey is used to analyze the overall effectiveness of the program and is conducted at the conclusion of training programs held at U.S. locations. The Alumni Survey is used to determine the benefit of the GIPA training program for the future job performance of the participant. The data obtained from these three surveys will be used to evaluate the percentage of foreign officials trained by GIPA who have increased their expertise in intellectual property, enhanced their professional abilities and future job performance, and developed their own nation's intellectual property program. All the surveys have updated questions and answer options.

Affected Public: Federal Government (Foreign Government).

Frequency: On occasion.

Respondent's Obligation: Voluntary.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0065.

Further information can be obtained by:

• Email: InformationCollection@uspto.gov. Include “0651-0065 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2020-19151 Filed 8-28-20; 8:45 am]

BILLING CODE 3510-16-P